NUCLEAR REGULATORY COMMISSION

[Docket No. 50-286]

Entergy Nuclear Operations, Inc; Notice of Issuance of Amendment to Facility Operating License

The U.S. Nuclear Regulatory Commission (Commission) has issued Amendment No. 205 to Facility Operating License No. DPR-64 issued to Entergy Nuclear Operations, Inc. (the licensee), which revised the Technical Specifications (TSs) for operation of the Indian Point Nuclear Generating Unit No. 3 located in Westchester County, New York. The amendment is effective as of the date of issuance.

The amendment modified the TSs by replacing them with Improved Standard Technical Specifications. The amendment also changed requirements regarding setpoints or allowable values associated with power range flux, pressurizer pressure, overtemperature delta T, overpower delta T, low reactor coolant loop flow, high pressurizer water level, steam generator water level, containment pressure, auto stop oil pressure, high steam line differential pressure and high steam flow; it extended the allowable time to restore an inoperable power operated relief valve to service; it extended the frequency for the pressure isolation valve leakage testing surveillance from 18 to 24 months; it changed current TS requirements by focusing on ensuring containment integrity at individual component level rather than at a zone level; and it added main steam check valve operability conditions.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on January 3, 2001 (66 FR 388). No request for a hearing or petition for leave to intervene was filed following this notice.

The Commission has prepared an Environmental Assessment related to the action and has determined not to prepare an environmental impact statement. Based upon the environmental assessment, the Commission has concluded that the issuance of the amendment will not have a significant effect on the quality of the human environment (66 FR 11609).

For further details with respect to the action see (1) the application for amendment dated December 11, 1998, as supplemented December 15, 1998, May 17, 1999, August 16, 2000, September 8, 2000, September 14, 2000, September 27, 2000, November 30, 2000, January 8, 2001, and January 11, 2001, (2) Amendment No. 205 to License No. DPR-64, (3) the Commission's related Safety Evaluation, and (4) the Commission's Environmental Assessment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 27th day of February 2001.
For the Nuclear Regulatory Commission.
George F. Wunder,
Project Manager, Section, Directorate 1, Division of Licensing Project Management, Office of Nuclear Reactor Regulation.

[FR Doc. 01-5811 Filed 3-8-01; 8:45 am]

BILLING CODE 7590-01-P